FEDERAL COMMUNICATIONS COMMISSION

[CC Docket No. 92-237; DA 00-2519]

Next Meeting of the North American Numbering Council

AGENCY: Federal Communications Commission.

ACTION: Notice.

SUMMARY: On November 7, 2000, the Commission released a public notice announcing the November 28 and 29, 2000, meeting and agenda of the North American Numbering Council (NANC). The intended effect of this action is to make the public aware of the NANC's next meeting and its agenda.

FOR FURTHER INFORMATION CONTACT: Cheryl Callahan, Designated Federal Officer (DFO) at (202) 418-2320 or cchallaha@fcc.gov. The address is: Network Services Division, Common Carrier Bureau, Federal Communications Commission, The Portals, 445 12th Street, SW, Suite 6A320, Washington, DC 20554. The fax number is: (202) 418-2345. The TTY number is: (202) 418-0484.

SUPPLEMENTARY INFORMATION: Released: November 7, 2000.

The North American Numbering Council (NANC) has scheduled a meeting to be held Tuesday, November 28, 2000, from 8:30 a.m. until 5:00 p.m., and on Wednesday, November 29, from 8:30 a.m., until 12 noon. The meeting will be held at the Federal Communications Commission, Portals II, 445 12th Street, SW, Room TW-C305, Washington, DC.

SUPPLEMENTARY INFORMATION: This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Cheryl Callahan at the address under FOR FURTHER INFORMATION CONTACT, stated above.

Proposed Agenda

1. Approval of September 19-20 and October 17-18, 2000, meeting minutes.

2. North American Numbering Plan Administration (NANPA) Report. Status of proposed enterprise services and prices. Numbering Resource Utilization/Forecast Report (NRUF) December 1, 2000, meeting.

3. North American Numbering Plan Administration (NANPA) Oversight Working Group Report. Status of the NANPA selection process, NANPA performance review and presentation of final NRUF Technical Requirements.

4. Numbering Resource Optimization (NRO) Working Group Report. Status of unassigned number porting (UNP) impacts—Ad Hoc Study Group input and Industry Numbering Committee (INC) UNP report.

5. Industry Numbering Committee (INC) Report.

6. Toll Free Access Codes Issue Management Group (IMG) Report.

7. Network Interconnection and Interoperability Forum (NIIF) Resolution of Issue #0173—Toll Free Record Application Performance Guidelines.

8. Local Number Portability Administration (LNPA) Working Group Report. Wireless Number Portability Subcommittee update and status of Third Wireline Wireless Integration Report (revisited).

9. Cost Recovery Working Group Report. Status of the North American Numbering Plan Billing and Collection (NBANC) Billing and Collection (B&C) Agent Technical Requirements.

Wednesday, November 29, 2000

10. Steering Group Report.

11. North American Numbering Plan Billing and Collection (NBANC) Report.

12. Reseller Identification Code (CIC) Issue Management Group Status Report.

13. Limited Liability Corporations (LLCs) and Number Portability Administration Centers (NPAC) activity update.

14. Public Participation (5 minutes each, if any).

15. Other Business.

16. Action Items and Decisions Reached.

Federal Communications Commission
L. Charles Keller,
Chief, Network Services Division, Common Carrier Bureau.

[FR Doc. 00-29029 Filed 11-9-00; 8:45 am]

BILLING CODE 6712-01-P